DEPARTMENT OF LABOR

Employment and Training Administration

[TA-W-72,041]

Aleris Blanking and Rim Products, Inc., a Division of Aleris International, Inc., Terre Haute, IN; Notice of Revised Determination on Reconsideration

On February 18, 2010, the Department issued an Affirmative Determination Regarding Application for Reconsideration for the workers and former workers of the subject firm. The Department's Notice of determination was published in the Federal Register on March 2, 2010 (75 FR 9436-9437). The workers produce aluminum blanks and hoops.

New information revealed that, during the period of investigation, imports of articles like or directly competitive with aluminum blanks and hoops produced by the subject firm have increased. Specifically, the Department of Labor conducted a second tier survey of the subject firm's major declining customer regarding their purchases of aluminum blanks and hoops during the relevant period. The survey revealed increased customer reliance on imported aluminum blanks and hoops.

Finally, Section 222(a)(2)(A)(iii) has been met because the increased imports of aluminum blanks and hoops by a second tier customer of the subject firm's major declining customer contributed importantly to the worker group separations and sales/production declines at the subject firm.

Conclusion

After careful review of the additional facts obtained during the reconsideration investigation, I determine that workers of Aleris Blanking and Rim Products, Inc., a division of Aleris International, Inc., Terre Haute, Indiana, who are engaged in employment related to the production of aluminum blanks and hoops, meet the worker group certification criteria under Section 222(a) of the Act, 19 U.S.C. 2272(a). In accordance with Section 223 of the Act, 19 U.S.C. 2273, I make the following certification:

All workers of Aleris Blanking and Rim Products, Inc., a division of Aleris International, Inc., Terre Haute, Indiana, who became totally or partially separated from employment on or after August 14, 2008, through two years from the date of this revised certification, and all workers in the group threatened with total or partial separation from employment on date of certification through two years from the date of certification, are eligible to apply for adjustment assistance under Chapter 2 of Title II of the Trade Act of 1974, as amended.

Signed in Washington, DC, this 4th day of March 2011.
Del Min Amy Chen,
Certifying Officer, Office of Trade Adjustment Assistance.

[FR Doc. 2011-6192 Filed 3-16-11; 8:45 am]

BILLING CODE 4510-FN-P